DEPARTMENT OF THE INTERIOR

Fish and Wildlife Service

[FWS-R2-R-2009-N212; 20131-1265-2CCP-S3]

Tishomingo National Wildlife Refuge, Comprehensive Conservation Plan, Johnston County, OK

AGENCY: Fish and Wildlife Service, Interior.

ACTION: Notice of availability: draft comprehensive conservation plan and draft environmental assessment; request for comments.

SUMMARY: We, the U.S. Fish and Wildlife Service (Service), announce the availability of a draft comprehensive conservation plan (CCP) and environmental assessment (EA) for Tishomingo National Wildlife Refuge (Refuge, NWR) for public review and comment. In these documents, we describe alternatives, including our preferred alternative, to manage this Refuge for the 15 years following approval of the final CCP. Draft compatibility determinations for several public uses are also available for review and public comment in the Draft CCP/EA.

DATES: To ensure consideration, we must receive your written comments by March 23, 2010. We will announce upcoming public meetings in local news media.

ADDRESSES: You may request a hard copy or CD-ROM copy of the draft CCP and EA by any of the following methods:

E-mail: joseph_lujan@fws.gov. Include “Tishomingo NWR Draft CCP and EA” in the subject line of the e-mail.

Fax: Attn: Joseph Lujan, Natural Resource Planner, 505-248-6874.

U.S. Mail: Joseph Lujan, Natural Resource Planner, U.S. Fish & Wildlife Service, Division of Planning, P.O. Box 1306, Albuquerque, NM 87103-1306.

In-Person Drop-off, Viewing, or Pickup: You may drop off comments during regular business hours (8 a.m. to 4:30 p.m.) at Tishomingo NWR Headquarters, 1200 South Refuge Road, Tishomingo, OK 73625; at the USFWS Regional Office, 500 Gold Avenue SW., 4th Floor, Room 4005, Albuquerque, NM 87102; or local libraries.

Agency Web Site: http://www.fws.gov/southwest/refuges/Plan/planindex.html.

FOR FURTHER INFORMATION CONTACT: Joseph R. Lujan, 505-248-7458; joseph_lujan@fws.gov.

SUPPLEMENTARY INFORMATION:

Introduction

With this notice, we continue the CCP process for Tishomingo NWR, which we started with a notice of intent to prepare a CCP that appeared in the November 17, 1999, issue of the Federal Register (64 FR 62683). For more about the initiation of this process see that notice. The Tishomingo National Wildlife Refuge consists of 16,464 acres located in south-central Oklahoma. On January 24, 1946, the Refuge was authorized and established to preserve nesting grounds for migrating waterfowl, by order of U.S. President Harry S. Truman under Public Land Order 312. The Corps of Engineers (Corps) and the Service's cooperative agreement, along with a cooperative agreement between the Service, Oklahoma Department of Wildlife Conservation (ODWC), and the Corps, are the foundation of Refuge management authority for the Service.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Public Outreach

We started the CCP process for Tishomingo NWR in October 2007. At that time and throughout the process, public comments were requested, considered, and incorporated in numerous ways. Public outreach has included a public scoping meeting, planning updates, a CCP Web page, and Federal Register notices. Comments we received cover topics such as wildlife, habitat, refuge management, invasive species management, partnerships, and visitor services. We have considered and evaluated all of these comments, with many incorporated into the various alternatives addressed in the draft CCP and the EA.

CCP Alternatives We Are Considering

During the public scoping process with which we started work on this draft CCP, we, other governmental partners, Tribes, and the public raised several issues. Our draft CCP addresses them. A full description of each alternative is in the EA. To address these issues, we developed and evaluated the following alternatives, summarized below. The Draft EA/CCP presents an evaluation of the environmental effects of three alternatives for managing the Tishomingo Refuge for the next 15 years. The Service proposes to implement Alternative B, as described in the EA. Alternative B best achieves the Refuge's purposes, vision, and goals; contributes to the Refuge System mission; addresses the significant issues and relevant mandates; and is consistent with principles of sound fish and wildlife management. This alternative is described in more detail in the CCP.

There are many features of proposed Refuge management that are common to all three alternatives. Features common to all alternatives include invasive species management, habitat management and restoration, implementation of hunting and fishing program, and providing wildlife observation and photography, and environmental education and interpretation opportunities. There are also many features of each alternative that are distinct.

Alternative A, the no action alternative, assumes no change from current management programs and is considered the baseline to compare other alternatives against. Under Alternative A, the primary management focus of the Refuge would continue to be providing for the enhancement and restoration of grasslands habitat at the rate and degree equivalent to existing restoration practices. Recreational opportunities would continue to be limited to traditional programs under existing approved hunting and fishing plans. The Cumberland Pool would continue to provide public hunting and fishing and the primary Refuge hunt area would remain the 3,170 acre Cooperative Wildlife Management Unit. Under this alternative the current headquarter facilities would not be improved or expanded to accommodate more visitors.

Current habitat management practices would continue including keeping approximately 1,000 acres of Refuge lands under cultivation. Total wetland acres would remain 156 acres unless increased by natural flooding.

Under Alternative B, the Refuge would adopt and implement the management efforts presented in the Tishomingo NWR CCP. The goals, objectives, and strategies detailed in the CCP would provide for short and long-term conservation and enhancement of Refuge resources and values while improving the overall quality of visitor services and addressing primary threats to the ecosystem. Under this alternative, existing habitat management activities would be expanded, including the improvement or creation of grassland habitats and moist soil units. This alternative would also utilize the management efforts detailed in the CCP to improve or expand visitor services programs and public use facilities on the Refuge. Additionally, under this alternative the use of adaptive management practices would contribute to ongoing monitoring and modification of Refuge resources for years to come.

Under this alternative, increased adaptive management practices would contribute to the completion of measurable objectives and further contribute to overall improvement of Refuge resources and quality of visitor services.

The Refuge habitat management program would continue to implement active management practices to address ecosystem threats such as mechanical removal of eastern red cedar, prescribed fire, and chemical and mechanical control of weed species to accelerate restoration of native plant species and enhance the quality of these habitats for wildlife. However, under this alternative these programs would be improved or expanded to more effectively utilize Refuge resources for habitat improvement. An example of this may include ongoing efforts to use an integrated pest management approach, including prescribed fire, mechanical removal, herbicides, and other methods, to control invasive species.

The increased use of prescribed fire as a management tool would be emphasized for invasive brush and tree control. The plan calls for targeting and prioritizing problem areas for restoration using herbicides and prescribed fire as management tools. Existing areas of native bluestem and tall grass prairie, naturally occurring low water areas, riparian, timber, floodplain, and hardwood forest as well as the aquatic riverine habitats would be further protected and enhanced through planned management strategies.

The Refuge's biological program would become more focused and include comprehensive inventories of wildlife species and habitats, thereby improving the Refuge's baseline biological information. This would allow staff to better evaluate habitat management decisions in the future and reevaluate the local and regional threats to the ecosystem. Approximately 1,000 acres of Refuge lands optimal for crop production would continue to be farmed to provide forage for migratory birds and resident wildlife.

Under Alternative C, the Refuge would continue the expansion of habitat management and restoration activities, combined with an expanded public use development and an expanded farming program. This alternative would incorporate the habitat and wildlife management components called for in Alternative B; however, this alternative would include more concentrated efforts in developing the Refuge's public use programs and facilities beyond the existing program. The ODWC would simultaneously expand the hunting program services, but only on the ODWC-managed wildlife management unit, and would continue to comply with all applicable State hunting and wildlife regulations.

This alternative would primarily expand visitor services by developing extensive public use facilities including hiking, wildlife observation and photography, and environmental interpretive systems.

Additionally, the existing farming program would be expanded to produce increased hot foods sources for migrating waterfowl within the Refuge. Local populations of Canada geese are reportedly occurring in much fewer numbers than in previous years, largely due to the result of decreased agricultural activities within the region. With fewer supplemental food sources within the region, the Refuge is less capable of supporting the historically larger populations of geese. However, the expansion of the farming program would come at the expense of native grassland prairie restoration, either through conversion of grasslands to farm fields or by simply reducing the number of potential agriculture to grassland restoration sites.

Management efforts to develop the Refuge's public use and farming programs with this level of intensity would require a substantial increase in annual operational funding and the addition of one or two Visitor Services Park Rangers within 5 years. Additional miles in hiking trails as well as motorized tour routes would fall under areas of annual inundation and would require heavy maintenance and upkeep. This alternative may or may not be feasible under the existing budgetary constraints.

Public Availability of Documents

In addition to any methods in ADDRESSES, you can view or obtain documents at the following locations:

• Tishomingo National Wildlife Refuge, 12000 Refuge Road, Tishomingo, OK 73625.

• Our Web site: http://fws.gov/southwest/refuges/plan/completeplans.html.

• Public Library:—The Johnston County Library—Chikasaw Library System, located at 116 W. Main Street Tishomingo, OK 73460, during regular library hours.

Submitting Comments/Issues for Comment

We particularly seek comments on all issues.

We consider comments substantive if they:

• Question, with reasonable basis, the accuracy of the information in the document;

• Question, with reasonable basis, the adequacy of the environmental assessment;

• Present reasonable alternatives other than those presented in the draft EA; and/or

• Provide new or additional information relevant to the assessment.

Next Steps

After this comment period ends, we will analyze the comments and address them in the form of a final CCP.

Dated: December 09, 2009.
Brian A. Millsap,
Acting Regional Director, Region 2.

[FR Doc. 2010-112 Filed 1-21-10; 8:45 am]

BILLING CODE 4310-55-P